DEPARTMENT OF COMMERCE

International Trade Administration

[A-533-838]

Carbazole Violet Pigment 23 From India: Rescission of Administrative Review

AGENCY: Import Administration, International Trade Administration, Department of Commerce

SUMMARY: On January 28, 2011, in response to a request from an interested party, the Department of Commerce (the Department) published a notice of initiation of the administrative review of the antidumping duty order on carbazole violet pigment 23 (CVP 23) from India for the period of December 1, 2009, through November 30, 2010. Because the party withdrew its request for an administrative review in a timely manner, the Department is rescinding this review.

DATES: Effective Date: May 3, 2011.

FOR FURTHER INFORMATION CONTACT: Jerrold Freeman or Richard Rimlinger, AD/CVD Operations, Office 5, Import Administration, International Trade Administration, U.S. Department of Commerce, 14th Street and Constitution Avenue, NW., Washington, DC 20230; telephone: (202) 482-0180 and (202) 482-4477, respectively.

SUPPLEMENTARY INFORMATION:

Background

On December 29, 2004, the Department published in the Federal Register the antidumping duty order on CVP 23 from India. See Notice of Amended Final Determination of Sales at Less Than Fair Value and Antidumping Duty Order: Carbazole Violet Pigment 23 From India, 69 FR 77988 (December 29, 2004). On January 28, 2011, in accordance with section 751(a) of the Tariff Act of 1930, as amended (the Act), and 19 CFR 351.221(c)(1)(i), we published a notice of initiation of the administrative review of the antidumping duty order. See Initiation of Antidumping and Countervailing Duty Administrative Reviews, 76 FR 5137 (January 28, 2011). We initiated the review with respect to Meghmani Pigments (Meghmani) based on its request for a review of its sales during the period December 1, 2009, through November 30, 2010.

On April 4, 2011, Meghmani withdrew its request for review of its sales of merchandise subject to the antidumping duty order for the period December 1, 2009, through November 30, 2010.

Rescission of Review

In accordance with 19 CFR 351.213(d)(1), the Department will rescind an administrative review, in whole or in part, “if a party that requested the review withdraws the request within 90 days of the date of publication of notice of initiation of the requested review.” We received a letter from Meghmani withdrawing its request for review within the 90-day time limit. We received no other requests for review of the antidumping duty order. In accordance with 19 CFR 351.213(d)(1), we are rescinding the review of the antidumping duty order on CVP 23 from India.

Assessment

The Department will instruct U.S. Customs and Border Protection to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the publication of this notice in the Federal Register.

Notification to Importer

This notice serves as a final reminder to importers of their responsibility under 19 CFR 351.402(f) to file a certificate regarding the reimbursement of antidumping duties prior to liquidation of the relevant entries during the review period. Failure to comply with this requirement could result in the Department's presumption that reimbursement of antidumping duties occurred and the subsequent assessment of doubled antidumping duties.

Notification to Interested Parties

This notice serves as a reminder to parties subject to the administrative protective order (APO) of their responsibility concerning the disposition of proprietary information disclosed under APO in accordance with 19 CFR 351.305(a)(3). Timely written notification of the destruction of APO materials or conversion to judicial protective order is hereby requested. Failure to comply with the regulations and terms of an APO is a sanctionable violation.

We are issuing and publishing this notice in accordance with section 777(i)(1) of the Act and 19 CFR 351.213(d)(4).

Dated: April 27, 2011.
Christian Marsh,
Deputy Assistant Secretary for Antidumping and Countervailing Duty Operations.

[FR Doc. 2011-10761 Filed 5-2-11; 8:45 am]

BILLING CODE 3510-DS-P